INTERNATIONAL TRADE COMMISSION

[Investigation Nos. 701-TA-742-745 and 731-TA-1720-1723 (Final)]

Hard Empty Capsules From Brazil, China, India, and Vietnam; Determinations

On the basis of the record ¹ developed in the subject investigations, the United States International Trade Commission (“Commission”) determines, pursuant to the Tariff Act of 1930 (“the Act”), that an industry in the United States is materially injured by reason of imports of hard empty capsules from China, India, and Vietnam and threatened with material injury by reason of imports of hard empty capsules from Brazil, provided for in subheadings 9602.00.10 and 9602.00.50 of the Harmonized Tariff Schedule of the United States, that have been found by the U.S. Department of Commerce (“Commerce”) to be sold in the United States at less than fair value (“LTFV”), and imports of the subject merchandise from Brazil, China, India, and Vietnam that have been found to be subsidized by the governments of Brazil, China, India, and Vietnam.²

¹ The record is defined in § 207.2(f) of the Commission's Rules of Practice and Procedure (19 CFR 207.2(f)).

² 90 FR 60626, 60613, 60623, 60610, 60620, 60618, 60628, and 60607 (December 29, 2025).

Background

The Commission instituted these investigations effective October 24, 2024, following receipt of petitions filed with the Commission and Commerce by Lonza Greenwood LLC, Greenwood, South Carolina. The final phase of the investigations was scheduled by the Commission following notification of preliminary determinations by Commerce that imports of hard empty capsules from Brazil, China, India, and Vietnam were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on June 25, 2025 (90 FR 27052).³ The Commission conducted its hearing on December 2, 2025. All persons who requested the opportunity were permitted to participate.

³ Due to the lapse in appropriations and ensuing cessation of Commission operations, the Commission tolled its schedule for this proceeding. The schedule was revised in subsequent notices published in the Federal Register on November 24, 2025 (90 FR 52999) and on December 15, 2025 (90 FR 58054).

The Commission made these determinations pursuant to §§ 705(b) and 735(b) of the Act (19 U.S.C. 1671d(b) and 19 U.S.C. 1673d(b)). It completed and filed its determinations in these investigations on February 12, 2026. The views of the Commission are contained in USITC Publication 5696 (February 2026), entitled Hard Empty Capsules from Brazil, China, India, and Vietnam: Investigation Nos. 701-TA-742-745 and 731-TA-1720-1723 (Final).

By order of the Commission.
Issued: February 12, 2026.
Lisa Barton,
Secretary to the Commission.

[FR Doc. 2026-03071 Filed 2-13-26; 8:45 am]

BILLING CODE 7020-02-P